DEPARTMENT OF ENERGY

Federal Energy Regulatory Commission

[Docket No. RP24-661-000]

Stingray Pipeline Company, L.L.C.; Notice of Technical Conference

On May 10, 2024, the Commission issued an order directing Commission staff to convene a technical conference to discuss Stingray Pipeline Company, L.L.C.'s proposed changes to the gas quality specifications of its tariff.¹ The technical conference will be held on Wednesday, July 17, 2024, from 9:00 a.m. to 4:00 p.m. Eastern Standard Time. The conference will be held virtually and in person at a room to be designated at the offices of the Federal Energy Regulatory Commission, 888 First Street NE, Washington, DC 20426. All interested persons are permitted to attend.

¹ Stingray Pipeline Company, L.L.C., 187 FERC ¶ 61,071 (2024).

Commission conferences are accessible under section 508 of the Rehabilitation Act of 1973. For accessibility accommodations, please send an email to accessibility@ferc.gov, call toll-free (866) 208-3372 (voice) or (202) 208-8659 (TTY), or send a fax to (202) 208-2106 with the required accommodations.

All interested parties that are not able to attend in person are invited to participate remotely. Staff will use the WebEx platform to view supporting documents related to this docket using the following link— https://ferc.webex.com/ferc/j.php?MTID=ma9bba4740d3e3deb1f85f91168ab9f61. For more information about this technical conference, please contact Will Morris at william.morris@ferc.gov or at (202) 502-6169 by July 16, 2024.

Dated: June 12, 2024.
Debbie-Anne A. Reese,
Acting Secretary.

[FR Doc. 2024-13393 Filed 6-17-24; 8:45 am]

BILLING CODE 6717-01-P